DELAWARE RIVER BASIN COMMISSION

Notice of Commission Meeting and Public Hearing

Notice is hereby given that the Delaware River Basin Commission will hold an informal conference followed by a public hearing on Wednesday, March 11, 2009. The hearing will be part of the Commission's regular business meeting. The conference session and business meeting both are open to the public and will be held at the Commission's office building, located at 25 State Police Drive, West Trenton, New Jersey.

The conference among the commissioners and staff will begin at 10:30 a.m. and will consist of a presentation by representatives of the National Weather Service and the U.S. Army Corps of Engineers on a project due to be completed later this year that will make digital, interactive flood inundation maps available via the Internet for the main stem Delaware River from Trenton to Port Jervis, excluding the Delaware Water Gap. The presentation will be followed by q. and a.

The subjects of the public hearing to be held during the 1:30 p.m. business meeting include the dockets listed below:

1. DuPont Country Club D-90-104-2. An application for renewal of a surface water withdrawal project to continue the withdrawal of a maximum of 11 million gallons per thirty days (mg/30 days) of water to irrigate approximately 80 acres of the applicant's golf course fairways. Surface water is withdrawn from two existing intakes—one on Brandywine Creek and the other on Husband's Run, a tributary of Brandywine Creek. The project is located in the Brandywine-Christina Watershed in the City of Wilmington, New Castle County, Delaware.

2. Borough of Glassboro D-96-54 CP-2. An application for the renewal of a ground water withdrawal project to continue the withdrawal of 105 mg/30 days to supply the applicant's public water distribution system from existing Wells Nos. 2, 3, 4, 5, 6, 7, 8, and 9 in the Cohansey Formation. The project is located in the Mantua Creek Watershed in Glassboro Borough, Gloucester County, New Jersey, in New Jersey Critical Water Supply Area 2.

3. Womelsdorf-Robesonia Joint Authority D-98-23 CP-2. An application for renewal of a ground water withdrawal project to continue the withdrawal of 23 mg/30 days to supply the applicant's public water supply from existing Well Nos. 1, 2, 8 and 9. The project is located in the Precambrian and Cambrian age formations in the Tulpehocken Creek Watershed in Millcreek Township, Lebanon County and Heidelberg Township, Berks County, Pennsylvania.

4. Buckingham Township D-2003-13 CP-5. An application for approval of a ground water withdrawal project to supply up to 5.31 mg/30 days of water to the applicant's public water supply system from new Well No. F-8 and retain the existing combined withdrawal from all wells of 42.0 mg/30 days. The project will allow the docket holder to add flexibility and redundancy and will relieve stress on its Furlong distribution system. The project is located in the Limeport Formation in the Mill Creek Watershed in Buckingham Township, Bucks County, Pennsylvania and is located in the Southeastern Pennsylvania Ground Water Protected Area.

5. United States Steel, LLC D-78-68-2. An application for the approval of a 0.163 million gallon per day (mgd) discharge of treated sanitary wastewater from Outfall No. 203; a 3.75 mgd discharge of industrial waste and non-contact cooling water (NCCW) from Outfall No. 103; and a NCCW discharge from Outfall No. 002. Additionally, the docket holder has requested increased TDS effluent concentrations to support a new industrial client. The applicant requests a TDS determination establishing new daily maximum (2,200 mg/l), monthly average (1,100 mg/l) and instantaneous maximum (2,750 mg/l) concentrations at Outfall No. 103. On-site Outfalls Nos. 103 (IWTP), 203 (WWTP) and 303 (stormwater only) all discharge to Outfall No. 003. The project WWTP, IWTP, and Outfall No. 002 all discharge to Water Quality Zone 2 of the Delaware River at River Mile 127.0. The project facilities are located at the U.S. Steel Real Estate Keystone Industrial Port Complex in Falls Township, Bucks County, Pennsylvania.

6. Eagle Lake Community Association D-87-55-2. An application to approve the Association's existing 0.5 mgd wastewater treatment plant (WWTP). The DRBC issued Docket No. D-87-55 on September 22, 1987, approving construction of a 0.4 mgd WWTP by the Association. The WWTP discharges to an unnamed tributary of Tamarack Creek, a tributary of the Lehigh River, which flows to the Delaware River. The project is located within the drainage area to the section of the non-tidal Delaware River known as the Lower Delaware, which is designated as Special Protection Waters with the classification Significant Resource Waters. The project is located in Covington Township, Lackawanna County, Pennsylvania.

7. Waste Management Disposal Services of Pennsylvania, Inc. D-88-54-4. An application for renewal of approval of a discharge of 0.1 mgd from the Grows Landfill Leachate Treatment Plant (LTP). Additionally, a TDS determination is requested to allow the plant's monthly average effluent TDS concentration to increase from 15,000 mg/l to 19,100 mg/l. The LTP outfall discharges to the tidal Delaware River via a cove in Water Quality Zone 2 at River Mile 125.64—1.0. The LTP is located in Falls Township, Bucks County, Pennsylvania. A Notice of Application Received for construction of a new 0.3 mgd LTP for the Grows Landfill was published on November 14, 2006 under Docket No. D-88-54-4. Since the proposed renewal will be processed first, the renewal will be assigned Docket No. D-88-54-4. The application for approval of a new LTP, to be reviewed separately, has been assigned Docket No. D-88-54-5.

8. Croda, Inc. D-88-74-3. An application for an increase in the applicant's ground water withdrawal from 60.04 mg/30 days to 76.63 mg/30 days. DNREC denied a like request, and the DRBC draft docket reflects that decision. Additionally, the applicant requested renewal of its surface water allocation; however the DRBC staff are recommending that the Commission consider a reduction. The purpose of the project is to continue to supply water for heating and cooling purposes to the Croda, Inc. industrial facility from one Delaware River Intake and Wells Nos. 8, 9, 10, 11, and 12. The existing groundwater allocation of 60.04 mg/30 days is proposed to be renewed for all wells, but the surface water allocation is proposed to be reduced from 470.0 mg/30 days to 99.0 mg/30 days. The project is located south of Interstate Route 295 in New Castle County, Delaware.

9. Ruscombmanor Township D-2007-34 CP-1. An application for approval to expand the Golden Oaks WWTP from 0.025 mgd to 0.0645 mgd. The WWTP discharges to an unnamed tributary of Furnace Creek in Ruscombmanor Township, Berks County, Pennsylvania.

10. Blue Mountain Ski Area D-2008-23-1. An application for approval of the expansion of the Blue Mountain Ski Area WWTP from 25,000 gallons per day (gpd) to 60,000 gpd. The project WWTP is located in Lower Towamensing Township, Carbon County, Pennsylvania. The WWTP currently discharges to Buckwa Creek, a tributary of Aquashicola Creek. If approved, the project will discharge directly to Aquashicola Creek. Aquashicola Creek is a tributary of the Lehigh River. The project WWTP is located within the drainage area of the section of the non-tidal Delaware River known as the Lower Delaware, which is classified as Special Protection Waters.

11. Aqua Pennsylvania, Inc. D-2008-25-1. An application for approval of the existing 0.150 mgd Ridley Creek Water Filtration Plant discharge. The discharge consists of filter backwash from the applicant's water filtration plant. The project discharges to Ridley Creek, which is a tributary of the Delaware River within Water Quality Zone 4. The project is located in Middletown Township, Delaware County, Pennsylvania.

12. West Deptford Energy Station D-2008-27-1. An application to approve a cooling water withdrawal and industrial wastewater discharge associated with the construction of a new gas fired, 1,500 megawatt combined cycle power generation facility, known as the West Deptford Energy Station (WDES). The WDES will withdraw an average of 222.6 mg/30 days and maximum of 287.7 mg/30 days of treated effluent from the effluent pipeline of the Gloucester County Utilities Authority (GCUA) wastewater treatment plant as a cooling water source. The WDES will also discharge a monthly average of 2.0 mgd (2.6 mgd daily maximum) of industrial wastewater back to GCUA's effluent pipeline (via WDES Outfall No. DSN001A). The combined effluents will discharge from GCUA's existing outfall (No. DSN001). The facility is located in West Deptford Township, Gloucester County, New Jersey.

13. Sunny Side Farms, Inc. D-2008-32-1. A ground water withdrawal project to supply a maximum of 13.5 mg/30 days of water for the irrigation of approximately 60 acres of wheat and soybeans from a single well known as Millville Farm Well. The well is located in the Kirkwood-Cohansey Formation in the Maurice River Watershed in the City of Millville, Cumberland County, New Jersey.

14. Arcelor Mittal Plate LLC D-2008-36-1. An application for approval of an existing surface water withdrawal of up to 240 mg/30 days. The Arcelor Mittal Plate Industrial facility withdraws surface water from two intakes. Intake No. 1 withdraws approximately 0.8 mgd of surface water from Sucker Run, a tributary of the West Branch Brandywine Creek. Intake No. 2 withdraws approximately 7.2 mgd of surface water from the West Branch Brandywine Creek. The facility is located in the City of Coatesville, Chester County, Pennsylvania.

15. FPL Energy Marcus Hook, L.P. D-2000-44-2. Approval is requested for minor corrections to the Descriptions and Decisions Sections of Docket D-2000-44, issued to FPL Energy Marcus Hook, L.P., on September 28, 2000.

The business meeting also will include adoption of the Minutes of the Commission's December 10, 2009 business meeting; announcements of upcoming advisory committee meetings and other events; a report on hydrologic conditions in the basin; a report by the Executive Director; and a report by the Commission's General Counsel. Additional business meeting items will include consideration by the Commission of a resolution adopting proposed amendments to the Water Code and Comprehensive Plan to implement water auditing, and a resolution formally declaring DRBC's intention to review natural gas drilling projects in shale formations in the Delaware Basin. An opportunity for public dialogue will be provided at the end of the meeting.

Draft dockets scheduled for public hearing on March 11, 2009 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: February 18, 2009.
Pamela M. Bush,
Commission Secretary.

[FR Doc. E9-3933 Filed 2-23-09; 8:45 am]

BILLING CODE 6360-01-P